DEPARTMENT OF HOMELAND SECURITY

U.S. Citizenship and Immigration Services

[OMB Control Number 1615-0068; Form I-590]

Agency Information Collection Activities: Registration for Classification as Refugee; Revision of a Currently Approved Collection

ACTION: 60-day notice.

SUMMARY: The Department of Homeland Security (DHS), U.S. Citizenship and Immigration Services (USCIS) invites the general public and other Federal agencies to comment upon this proposed revision of a currently approved collection of information. In accordance with the Paperwork Reduction Act (PRA) of 1995, the information collection notice is published in the Federal Register to obtain comments regarding the nature of the information collection, the categories of respondents, the estimated burden (i.e. the time, effort, and resources used by the respondents to respond), the estimated cost to the respondent, and the actual information collection instruments. During this 60-day period, USCIS will be evaluating whether to further revise the information collection. Should USCIS decide to further revise the information collection, it will advise the public when it publishes the 30-day notice in the Federal Register in accordance with the PRA. The public will then have 30 days to comment on any further revisions to the information collection.

DATES: Comments are encouraged and will be accepted for 60 days until November 19, 2013.

ADDRESSES: During the 60-day comment period, written comments and suggestions regarding items contained in this notice, and especially with regard to the estimated public burden and associated response time must be directed to DHS using one of the following methods: (1) Via the Federal eRulemaking Portal Web site at www.Regulations.gov under e-Docket ID number USCIS-2007-0036; (2) by email to USCISFRComment@uscis.dhs.gov; or (3) by mail to DHS, USCIS, Office of Policy and Strategy, Chief, Regulatory Coordination Division, 20 Massachusetts Avenue NW., Washington, DC 20529-2140. All submissions received must include the OMB Control Number 1615-0068 in the subject box, the agency name and e-Docket ID USCIS-2007-0036.

Regardless of the method used for submitting comments or material, all submissions will be posted, without change, to the Federal eRulemaking Portal at http://www.Regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.Regulations.gov.

Note: The address listed in this notice should only be used to submit comments concerning this information collection. Please do not submit requests for individual case status inquiries to this address. If you are seeking information about the status of your individual case, please check “My Case Status” online at: https://egov.uscis.gov/cris/Dashboard.do, or call the USCIS National Customer Service Center at 1-800-375-5283.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of a Currently Approved Collection.

(2) Title of the Form/Collection: Registration for Classification as Refuge.

(3) Agency form number, if any, and the applicable component of the DHS sponsoring the collection: I-590; USCIS.

(4) Affected public who will be asked or required to respond, as well as a brief abstract: Primary: Individuals or households. Form I-590 provides a uniform method for applicants to apply for refugee status and contains the information needed for USCIS to adjudicate such applications.

The revised Form I-590 includes additional questions that have been transferred from Form G-646, Sworn Statement of Refugee Applying for Admission into the United States. These questions assist USCIS in determining whether an applicant is inadmissible to the United States.

(5) An estimate of the total number of respondents and the amount of time estimated for an average respondent to respond: 100,000 responses at 3 hours and 20 minutes (3.33 hours) per response.

(6) An estimate of the total public burden (in hours) associated with the collection: 333,000 annual burden hours.

If you need a copy of the information collection instrument with instructions, or additional information, please visit the Federal eRulemaking Portal site at: http://www.Regulations.gov. We may also be contacted at: USCIS, Office of Policy and Strategy, Regulatory Coordination Division, 20 Massachusetts Avenue NW., Washington, DC 20529-2140, Telephone number 202-272-8377.

Dated: September 17, 2013.
Laura Dawkins,
Chief, Regulatory Coordination Division, Office of Policy and Strategy, U.S. Citizenship and Immigration Services, Department of Homeland Security.

[FR Doc. 2013-22975 Filed 9-19-13; 8:45 am]

BILLING CODE 9111-97-P